DEPARTMENT OF TRANSPORTATION

Federal Aviation Administration

Collaborative Decisionmaking Simulation

AGENCY: Federal Aviation Administration (FAA), DOT.

ACTION: Summary of the simulation of a capacity-reducing event using Chicago O'Hare International Airport as a model.

SUMMARY: This summarizes the simulation of a capacity-reducing event run by the FAA on July 13-14, 2004. This simulation was conducted by the agency in accordance with Section 423 of Public Law 108-176, codified at section 40129 of title 49 of the United States Code.

FOR FURTHER INFORMATION CONTACT: James W. Whitlow, Deputy Chief Counsel, Policy and Adjudication, Federal Aviation Administration, 800 Independence Avenue, SW., Washington, DC 20591; telephone (202) 267-3773.

SUPPLEMENTARY INFORMATION:

Background

In accordance with Section 423 of Public Law 108-176, the FAA sought to establish a collaborative decision making pilot program that would facilitate certain communications among participating carriers at a designated airport over their flight schedules if the airport experience or is expected to experience reduced capacity because of a capacity-reducing event. On March 23, 2004 (69 FR 13616), the FAA published a notice in the Federal Register requesting comments on the FAA's proposed actions to implement a program. In that notice, the FAA announced it was preparing a computer simulation of a capacity-reducing event using Chicago O'Hare International Airport as a model. The stated purpose of the simulation was to evaluate the effectiveness of different delay-avoidance strategies that may be employed by the FAA and its customers in handling a capacity-reducing event.

The FAA scheduled the simulation for July 13-14, 2003, and issued a letter of invitation to the major airlines operating at O'Hare Airport, and to all major industry groups. The simulation was built around an actual capacity-reducing event that occurred at O'Hare Airport on March 17, 2004, when a ground delay program was implemented at the airport for 11 hours because of a snowstorm. The simulation was designed to allow carriers to review their data for that date, and compare it to the results achieved during the simulation.

This document summarizes the simulation that was conducted on July 13-14, 2004.

Summary

Participants in the simulation included seven airlines, two trade groups, and FAA and DOT personnel. The seven airlines represented 96% of the flights into O'Hare Airport. The participants first reviewed the March 17th operation at O'Hare Airport before proceeding to the simulation. In the first simulation scenario, the airlines had entered their date 12 hours in advance, without sharing their information with any other carriers.

Based on the data entered in the software, the carriers were able to accommodate 93% of their passengers on their own airline. A factor impacting this result was the airlines' lack of access during the simulation to the passenger and planning resources available at their Operation Centers. This skewed the number of non-accommodated passengers, because the Operation Centers have resources available to accommodate their passengers, including busing and the use of larger aircraft.

The next simulation reduced the airport arrival rate below the actual rate incurred on March 17, 2004 in order to explore the concept of inter-airline communication. Again the airlines affirmed their ability to accommodate passengers through mechanisms available today, using their existing online and interline flight interruption procedures.

Conclusions

The simulation did identify modifications to the ground delay program software that would enhance operations, such as earlier notification of a ground delay program and warnings when a city-pair was left without service. The participants indicated, however, that these enhancements could be acted upon without further action by the FAA under Section 423.

Participants expressed concern about anti-trust legal issues, the costs that would be incurred to implement a formal CRE program similar to the simulation, and the lack of quantifiable benefits. The unreliability of forecasted weather was considered a detriment to changing airlines' schedules early, thereby inconveniencing passengers and disrupting the airlines' schedule. It was recommended by the participants that no additional action was necessary or should be taken by the FAA to implement a collaborative decision making program under this legislation. Accordingly, the FAA intends to take no further action on this matter at this time.

Issued in Washington, DC on March 17, 2005.
Andrew B. Steinberg,
Chief Counsel.

[FR Doc. 05-5646 Filed 3-22-05; 8:45 am]

BILLING CODE 4910-13-M